FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011626-010.

Title: Alianca/HSDG/P&O Nedlloyd Agreement.

Parties: Alianca Navegacao e Logistica Ltda.; Hamburg Süd; P&O Nedlloyd Limited; P&O Nedlloyd B.V.; and Mercosul Line Navegacao e Logistica Ltda.

Filing Party: Neal M. Mayer, Esq.; Hoppel, Mayer & Coleman; 1000 Connecticut Avenue, NW., Washington, DC 20036.

Synopsis: The proposed modification reduces the number of vessels utilized and makes resulting changes to the parties' space allocation. It also provides for specific transshipment services. The parties request expedited review.

Agreement No.: 011638-002.

Title: Sea Girt Chassis Cooperative, L.L.C. Limited Liability Company Agreement.

Parties: Atlantic Container Lines, China Ocean Shipping Container Lines Co., Ltd., and Mediterranean Shipping Company.

Filing Party: Jeffrey F. Lawrence, Esq.; Sher & Blackwell; 1850 M Street, NW., Suite 900, Washington, DC 20036.

Synopsis: The amendment deletes Atlantic Container Lines and adds CMA CGM, S.A. and Compania Sudamericana de Vapores, S.A. It also deletes obsolete references to Agreement counsel.

Agreement No.: 011733-011.

Title: Common Ocean Carrier Platform Agreement.

Parties: A.P. Moller-Maersk A/S, P&O Nedlloyd Limited, Hamburg-Süd, Mediterranean Shipping Company S.A., CMA CGM S.A., Hapag Lloyd Container Linie GmbH, and United Arab Shipping Company (SAG), as shareholder parties, and Alianca Navegacao e Logistica Ltda., Safmarine Container Lines N.V., Nippon Yusen Kaisha, CP Ship Limited, Tasman Orient Line C.V., Mitsui O.S.K. lines, Ltd., Lykes Lines Limited, LLC, and Kawasaki Kisen Kaisha, Ltd. as non-shareholder parties.

Filing Party: Wayne R. Rohde, Esq.; Sher & Blackwell; 1850 M Street, NW., Suite 900, Washington, DC 20036.

Synopsis: The amendment adds Kawasaki Kisen Kaisha, Ltd. as a non-shareholder party to the agreement.

By Order of the Federal Maritime Commission.
Dated: July 2, 2004.
Bryant L. VanBrakle,
Secretary.

[FR Doc. 04-15578 Filed 7-8-04; 8:45 am]

BILLING CODE 6730-01-P